FEDERAL COMMUNICATIONS COMMISSION

47 CFR Parts 36 and 54

[CC Docket No. 96-45; DA 00-1825]

Common Carrier Bureau Seeks Comment on Updating Line Counts for Calculating High-Cost Universal Service Support for Non-Rural Carriers for the Year 2001

AGENCY: Federal Communications Commission.

ACTION: Proposed rule; extension of comment period.

SUMMARY: In a Public Notice in this proceeding released on July 24, 2000, the Common Carrier Bureau (Bureau) sought comment on updating line count values for purposes of determining support for the year 2001. In this document, the Bureau extends the comment cycle of that Public Notice. The Bureau has extended the comment cycle to give the public more time to respond. The Bureau extends the original comment date from August 28, 2000 to August 30, 2000. The reply comment date has been extended from August 15, 2000 to September 6, 2000.

DATES: Submit comments on or before August 30, 2000 and reply comments on or before September 6, 2000.

ADDRESSES: Federal Communications Commission, 445 12th Street, SW., Washington, DC 20554, room TW-B204.

FOR FURTHER INFORMATION CONTACT: Katie King, Attorney, Common Carrier Bureau, Accounting Policy Division, (202) 418-7400 TTY: (202) 418-0484.

SUPPLEMENTARY INFORMATION: The full text of this document is available for public inspection and copying during regular business hours at the FCC Reference Information Center, Portals II, 445 12th Street, SW., Room CY-A257, Washington, DC 20554. This document may also be purchased from the Commission's copy contractor, International Transcription Service, Inc. (ITS), 1231 20th Street, NW., Washington, DC 20036, telephone 202-857-3800, facsimile 202-857-3805.

On July 24, 2000, the Common Carrier Bureau released a Public Notice seeking comment on updating line counts for calculating high-cost universal service support for non-rural carriers for the year 2001 and establishing comment and reply comment dates of August 8 and August 15, 2000, respectively. We extend the comment and reply comment dates to August 30 and September 6, 2000, respectively. Accordingly, reply comments addressing comments filed August 8 and August 30, 2000 are due September 6, 2000.

On October 21, 1999, the Commission adopted two orders implementing a new high-cost universal service support mechanism for non-rural carriers for determining support beginning January 1, 2000. The Commission recognized the importance of updating the inputs in the universal service cost model as technology and other conditions change. On April 7, 2000, the Commission released an order clarifying how updated line count data, filed by non-rural carriers every quarter, would be used to determine support amounts for the year 2000. In this Public Notice, we seek comment on updating line count input values for purposes of determining support for the year 2001.

Line counts are used for two general purposes in the high-cost support mechanism for non-rural carriers. First, line counts are used in the universal service cost model to estimate the forward-looking costs of providing supported services. Second, line counts are used to calculate support based on those costs and target that support to high-cost areas.

We seek comment on updating line count data in the universal service cost model. If the line count input values are not updated, non-rural support would continue to increase indefinitely because of line growth. Thus, the non-rural high-cost support mechanism would never take into account the economies of scale resulting from serving more lines. On July 31, 2000, non-rural carriers will file year-end 1999 wire center line count data. We specifically seek comment on whether the Commission should update the line count input values used in the cost model for purposes of determining support amounts for the year 2001. If the Commission were to use these updated line counts in the model, we seek comment on how these line counts, which are USF loops, should be allocated to the classes of service used in the model. In particular, we seek comment on whether the Commission should use wire center line count data filed by non-rural carriers pursuant to the 1999 Data Request to allocate lines to the classes of service used in the model. If the Commission were to use the 1999 Data Request to allocate USF loops to switched line categories, we also seek comment on how to determine the number of special lines in each wire center. Now that carriers file wire center line count data, these line counts should be matched to the wire centers used in the model. Accordingly, we also seek comment on how to match the quarterly wire center line counts with the wire centers in the model.

Pursuant to §§ 1.415 and 1.419 of the Commission's rules, interested parties may file comments on or before August 30, 2000 and reply comments on or before September 6, 2000. Comments may be filed using the Commission's Electronic Comment Filing System (ECFS) or by filing paper copies. See Electronic Filing of Documents in Rulemaking Proceedings, 63 FR 24,121 (1998). Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address.” A sample form and directions will be sent in reply. Parties who choose to file by paper must file an original and four copies of each filing. If more than one docket or rulemaking number appears in the caption of this proceeding, commenters must submit two additional copies for each additional docket or rulemaking number. All filings must be sent to the Commission's Secretary, Magalie Roman Salas, Office of the Secretary, Federal Communications Commission, 445 12th Street, SW., Washington, DC 20554.

Parties also must send three paper copies of their filing to Sheryl Todd, Accounting Policy Division, Common Carrier Bureau, Federal Communications Commission, 445 Twelfth Street SW., Room 5-B540, Washington, DC 20554. In addition, commenters must send diskette copies to the Commission's copy contractor, International Transcription Service, Inc., 1231 20th Street, NW., Washington, DC 20037.

Pursuant to § 1.1206 of the Commission's rules, this proceeding will be conducted as a permit-but-disclose proceeding in which ex parte communications are permitted subject to disclosure.

Federal Communications Commission.
Katherine L. Schroder,
Deputy Chief, Accounting Policy Division.

[FR Doc. 00-20876 Filed 8-16-00; 8:45 am]

BILLING CODE 6712-01-P